DEPARTMENT OF TRANSPORTATION

National Highway Traffic Safety Administration

[Docket No. NHTSA 2003-16464; Notice 2]

The Goodyear Tire & Rubber Company, Grant of Petition for Decision of Inconsequential Noncompliance

The Goodyear Tire & Rubber Company (Goodyear) has determined that certain tires it manufactured from 1998 to 2003 do not comply with S6.5(f) of Federal Motor Vehicle Safety Standard (FMVSS) No. 119, “New pneumatic tires for vehicles other than passenger cars.” Pursuant to 49 U.S.C. 30118(d) and 30120(h), Goodyear has petitioned for a determination that this noncompliance is inconsequential to motor vehicle safety and has filed an appropriate report pursuant to 49 CFR part 573, “Defect and Noncompliance Reports.” Notice of receipt of a petition was published, with a 30-day comment period, on December 3, 2003, in the Federal Register (68 FR 67739). NHTSA received no comments.

S6.5(f) of FMVSS No. 119 requires that each tire shall be marked on each sidewall with “the actual number of plies.” Goodyear produced 37,980 LT265/75R16 Wrangler RT/s LR-E tires during the period from February 1, 1998 to May 31, 2003, which do not comply with FMVSS No. 119, S6.5(f). These tires were marked with 3 plies in the sidewall while there were actually 2 plies in the sidewall.

Goodyear stated that this error occurred when these tires replaced the previous tires that had 3 plies in the sidewall. The new tires were changed to 2 plies but the mold drawing and specification were not revised to reflect this change.

Goodyear believes that this noncompliance is inconsequential to motor vehicle safety because the tires meet or exceed all applicable FMVSS performance standards, and all markings related to tire service (load capacity, corresponding inflation pressure, load range, etc.) are correct. Goodyear asserts that the mislabeling noted above creates no unsafe condition.

The agency agrees with Goodyear's statement that the incorrect designation of 3 plies when there were actually 2 plies on each tire does not present a serious safety concern. The agency believes that the true measure of inconsequentiality to motor vehicle safety in this case is that there is no effect of the noncompliance on the operational safety of vehicles on which these tires are mounted. The safety of people working in the tire retread, repair, and recycling industries must also be considered.

Although tire construction affects the strength and durability, neither the agency nor the tire industry provides information relating tire strength and durability to the number of plies and types of ply cord material in the tread and sidewall. Therefore, tire dealers and customers should consider the tire construction information along with other information such as the load capacity, maximum inflation pressure, and tread wear, temperature, and traction ratings, to assess performance capabilities of various tires. In the agency's judgment, the incorrect labeling of the tire construction information will have an inconsequential effect on motor vehicle safety because most consumers do not base tire purchases or vehicle operation parameters on the number of plies in a tire.

The agency believes the noncompliance will have no measurable effect on the safety of the tire retread, repair, and recycling industries. The use of steel cord construction in the sidewall and tread is the primary safety concern of these industries. In this case, since the tire sidewalls are not of steel cord construction, but are actually polyester, this potential safety concern does not exist.

In addition, the tires are certified to meet all the performance requirements of FMVSS No. 119. All other informational markings as required by FMVSS No. 119 are present. Goodyear has also corrected the problem.

In consideration of the foregoing, NHTSA has decided that the petitioner has met its burden of persuasion that the noncompliance described is inconsequential to motor vehicle safety. Accordingly, Goodyear's petition is granted and the petitioner is exempted from the obligation of providing notification of, and a remedy for, the noncompliance.

(Authority: 49 U.S.C. 30118, 30120; delegations of authority at CFR 1.50 and 501.8)

Kenneth N. Weinstein,
Associate Administrator for Enforcement.

[FR Doc. 04-5744 Filed 3-12-04; 8:45 am]

BILLING CODE 4910-59-P